DEPARTMENT OF LABOR

Employment and Training Administration

[TA-W-60,640]

National Apparel, LLC, San Francisco, CA; Notice of Termination of Investigation

Pursuant to Section 221 of the Trade Act of 1974, as amended, an investigation was initiated on December 19, 2006 in response to a petition filed on behalf of workers of National Apparel, LLC, San Francisco, California.

The petition regarding the investigation has been deemed invalid. The petition, filed by three workers, did not contain the signatures of the petitioners. Consequently, the investigation has been terminated.

Signed at Washington, DC, this 23rd day of January 2007.
Linda G. Poole,
Certifying Officer, Division of Trade Adjustment Assistance.

[FR Doc. E7-1473 Filed 1-30-07; 8:45 am]

BILLING CODE 4510-30-P